NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66).

Date and Time:

November 16, 2017; 12:30 p.m.-5:15 p.m.

November 17, 2017; 8:30 a.m.-2:45 p.m.

Place: National Science Foundation, 2415 Eisenhower Ave., Alexandria, VA 22314.

Meeting Information: https://www.nsf.gov/mps/advisory.jsp.

Type of Meeting: Open.

Contact Person: Tamara Savage, National Science Foundation, 2415 Eisenhower Ave., Alexandria, VA 22314; Email: tasavage@nsf.gov.

Purpose of Meeting: To provide advice, recommendations, and counsel on major goals and policies pertaining to mathematical and physical sciences programs and activities.

Agenda

Thursday, November 16, 2017

• Meeting opening, FACA briefing, introductions, and approval of previous meeting minutes

• MPS updates

• Division updates

• More effective external partnerships, part 1

• Strategy discussion about Big Ideas

• Prep for meeting with the NSF Director and COO

Friday, November 17, 2017

• Meeting opening and FACA briefing

• More effective external partnerships, part 2

• Meeting with the NSF Director and COO

• Debrief and discussion on meeting with the NSF Director and COO

• Forming a sub-committee to assess the Physics Frontiers program

• Continued discussion about external partnerships and Big Ideas

• Wrap up and opportunity for public Q&A/comments

Dated: October 16, 2017.
Crystal Robinson,
Committee Management Officer.

[FR Doc. 2017-22666 Filed 10-18-17; 8:45 am]

BILLING CODE 7555-01-P